DEPARTMENT OF COMMERCE

Census Bureau

Agency Information Collection Activities; Submission to the Office of Management and Budget (OMB) for Review and Approval; Comment Request; Generic Clearance for 2030 Census Small-Scale Tests, Evaluations, and Database Updates

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 11, 2024, during a 60-day comment period. This notice allows for an additional 30 days for public comments.

Agency: U.S. Census Bureau, Department of Commerce.

Title: Generic Clearance for Census Bureau Field Tests and Evaluations.

OMB Control Number: 0607-XXXX.

Form Number(s): Not yet determined.

Type of Request: Regular submission, New Information Collection Request.

Number of Respondents: 162,000-175,000 per year.

Average Hours per Response: 18 minutes.

Burden Hours: 51,000-53,100 hours annually.

Needs and Uses: The upper range for the proposed annual burden hours is a slight reduction from the 55,000 hours the Census Bureau estimated in the 60-day Federal Register Notice for this generic information collection, and that figure was reduced for programmatic reasons.

The U.S. Census Bureau is committed to conducting research towards developing a well-managed, cost-effective, high quality decennial census. To that end, the Census Bureau requests OMB approval for a new generic clearance to conduct a series of studies to research and evaluate how to improve data collection activities for 2030 Census programs at the Census Bureau. These studies will explore how the Census Bureau can improve efficiency, data quality, and response rates and reduce respondent burden in future census and survey operations, evaluations and experiments. This research program is for database updates, respondent communication, questionnaire and procedure development and evaluation purposes. We will use data tabulations to evaluate the results of questionnaire testing. Data will also be used to update address databases and other datasets used to plan and conduct larger tests and the 2030 Census itself.

Affected Public: Individuals or households, businesses or other for profit, farms.

Frequency: Once.

Respondent's Obligation: Mandatory.

Legal Authority: Title 13, Sections 141, 191, 193, 221, and 223.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Departmental PRA Clearance Officer, Office of the Under Secretary for Economic Affairs, Commerce Department.

[FR Doc. 2024-27652 Filed 11-25-24; 8:45 am]

BILLING CODE 3510-07-P